FEDERAL TRADE COMMISSION

Public Workshop: Competition Policy in the World of B2B Electronic Marketplaces

AGENCY: Federal Trade Commission.

ACTION: Notice announcing extension of deadline.

SUMMARY: the Federal Trade Commission (“FTC” or “Commission”) will extend to July 21, 2000, the date by which it will accept written presentations relating to the June 29-30, 2000, FTC workshop examining issues of competition policy that arise in connection with business-to-business (“B2B”) electronic marketplaces.

DATES: Written presentations may be submitted by July 21, 2000.

ADDRESSES: Any interested person may submit by July 21, 2000, a written presentation that will be considered part of the public record of the workshop. Written presentations should be submitted in both hard copy and electronic form. Six hard copies of each submission should be addressed to Donald S. Clark, Office of the Secretary, Federal Trade Commission, 600 Pennsylvania Avenue, NW., Washington, DC 20580. Submissions should be captioned “Comments regarding B2B Electronic Marketplaces.” Electronic submissions may be sent by electronic mail to b2bmarketplaces@ftc.gov. Alternatively, electronic submissions may be filed on a 3½ inch computer disk with a label on the disk stating the name of the submitter and the name and version of the word processing program used to create the document.

FOR FURTHER INFORMATION CONTACT: To obtain information about the workshop, please contact Gail Levine, Assistant Director for Policy Planning, Federal Trade Commission, 600 Pennsylvania Avenue, NW., Washington, DC 20580, telephone (202) 326-3193, e-mail glevine@ftc.gov.

SUPPLEMENTARY INFORMATION: On June 29-30, 2000, the FTC held a workshop that brought together designers, owners, and operators of B2B electronic marketplaces, and the buyers and sellers who use or wish to use them. The goal was to enhance understanding of how B2B electronic marketplaces function and the means by which they may generate efficiencies, and to identify any antitrust issues that they raise. A transcript of the discussions will be posted on the FTC website as soon as it is available. Some of the questions that the workshop addressed are available in a previously issued Federal Register notice, available at http://www.ftc.gov/os/2000/05/b2workshopfrn.htm.

By direction of the Commission.
Benjamin I. Berman,
Acting Secretary.

[FR Doc. 00-18189 Filed 7-18-00; 8:45 am]

BILLING CODE 6750-01-M